DEPARTMENT OF STATE

[Public Notice #3724]

Notice of Meeting; United States International Telecommunication Advisory Committee

The Department of State announces a meeting of the U.S. International Telecommunication Advisory Committee. The purpose of the Committee is to advise the Department on policy and technical issues with respect to the International Telecommunication Union. This meeting will be held via email.

The US Study Group B will meet by email from August 1 to August 15, 2001, to start preparing for the October meeting of ITU-T Study Group 2. The SG will consider two candidate normal contributions titled: “Proposal for Restructuring Recommendation G.650” and “L- and C-Band Attenuation in Installed Fibre Links.” Members of the general public may participate in this meeting by providing an email address to the meeting Secretariat by telephone at 202-647-0965 or by email to EBCIPMA@state.gov.

Dated: July 19, 2001.
Marian R. Gordon,
Director, Telecommunication & Information Standardization, U.S. Department of State.

[FR Doc. 01-18525 Filed 7-20-01; 1:57 pm]

BILLING CODE 4710-45-P